Title 3—

The President

Presidential Determination No. 2007-7 of December 7, 2006

Presidential Determination on Sanctions Against North Korea for Detonation of a Nuclear Explosive Device

Memorandum for the Secretary of State

In accordance with section 102(b) (1) of the Arms Export Control Act and section 129 of the Atomic Energy Act, I hereby determine that North Korea, a non-nuclear-weapon state, detonated a nuclear explosive device on October 9, 2006. The relevant agencies and instrumentalities of the United States Government are hereby directed to take the necessary actions to impose on North Korea the sanctions described in section 102(b) (2) of the Arms Export Control Act, as amended (22 U.S.C. 2799aa-1), and section 129 of the Atomic Energy Act of 1954, as amended (42 U.S.C. 2158).

You are authorized and directed to transmit this determination to the appropriate committees of the Congress and to arrange for its publication in the Federal Register.

THE WHITE HOUSE,

Washington, December 7, 2006.

[FR Doc. 07-133

Filed 1-12-07; 8:45 am]

Billing code 4710-10-P